DEPARTMENT OF THE INTERIOR

Bureau of Ocean Energy Management, Regulation and Enforcement

Outer Continental Shelf (OCS), Central and Western Gulf of Mexico, Oil and Gas Lease Sales for Years 2012-2017

AGENCY: Bureau of Ocean Energy Management, Regulation and Enforcement (BOEMRE), Interior.

ACTION: Call for information and nominations.

SUMMARY: This Call for Information and Nominations (hereinafter referred to as “Call”) is the initial step in a single multisale process covering all lease sales in the Central and Western Gulf of Mexico (GOM) Planning Areas to be included in the OCS Oil and Gas Leasing Program for 2012-2017. Ten lease sales are specifically covered by this Call: five in the Central GOM Planning Area and five in the Western GOM Planning Area. Concurrent with this Call, BOEMRE is preparing a multisale Environmental Impact Statement (EIS) covering the same ten sales in the Central and Western GOM Planning Areas. For each of the ten individual lease sales associated with this Call, BOEMRE will comply with the National Environmental Policy Act (NEPA), the Outer Continental Shelf Lands Act (OCSLA), and the Coastal Zone Management Act (CZMA).

DATES: Nominations and comments must be received at the address specified below no later than 30 days following publication of this document in the Federal Register.

FOR FURTHER INFORMATION CONTACT: Mr. Carrol Williams, Bureau of Ocean Energy Management, Regulation and Enforcement, Gulf of Mexico OCS Region, 1201 Elmwood Park Boulevard, New Orleans, Louisiana 70123-2394, telephone (504) 736-2803.

SUPPLEMENTARY INFORMATION: On August 1, 2008, BOEMRE initiated the 5-year oil and gas leasing program preparation process with publication of a Request for Information (RFI) on a program to cover the 2010-2015 time period, two years earlier than the usual cycle. On January 16, 2009, BOEMRE announced the release of the Draft Proposed Program (DPP) and Notice of Intent to Prepare an EIS for 2010-2015. On February 10, 2009, Secretary Salazar extended the comment period on the DPP to September 21, 2009, and later conducted four regional meetings to provide additional opportunities for input by all stakeholders.

On December 1, 2010, the Secretary announced the OCS Oil and Gas Strategy as part of President Obama's comprehensive energy plan for the country. This strategy will guide the next steps in preparation of the new 2012-2017 program. As part of this strategy, on January 4, 2011, BOEMRE published a Notice of Scoping Meetings on the EIS modifying the OCS areas to be scoped for inclusion in the 5-year EIS (76 FR 376). The planning areas are the Western and Central GOM, as well as the area of the Eastern GOM not included in the Congressionally-mandated drilling moratorium; and the Beaufort Sea, Chukchi Sea, and Cook Inlet, which are located off Alaska.

This multisale Call covers only the lease sales in the Central and Western GOM Planning Areas that will be included in the OCS Oil and Gas Leasing Program for 2012-2017. On February 9, 2011, BOEMRE published a Notice of Intent to Prepare an EIS on the 2012-2017 oil and gas leasing proposals in the Western and Central Planning Areas of the GOM (76 FR 7228).

This Call is the sixth issuance of a Gulf of Mexico OCS Region multisale Call. In 1996, BOEMRE implemented two multisale Call processes for lease sales in the Central and Western GOM Planning Areas, respectively, in association with the 1997-2002 OCS Oil and Gas Leasing Program. In the 2002-2007 OCS Oil and Gas Leasing Program, BOEMRE implemented one multisale Call process for Central and Western GOM Planning Areas lease sales and one multisale Call process for Eastern GOM Planning Area lease sales. BOEMRE issued one multisale Call process for Central and Western GOM Planning Area lease sales in the 2007-2012 OCS Oil and Gas Leasing Program.

Call for Information and Nominations

1. Authority

This Call is published pursuant to OCSLA (43 U.S.C. 1331 et seq.) and implementing regulations (30 CFR part 256).

2. Purpose of Call

The purpose of the Call is to gather information for the following proposed OCS Lease Sales in the Central and Western GOM Planning Areas. Lease Sale numbers for the last two years of this 5-year Program have not been determined and are listed as to be determined (TBD):

Lease sale, OCS planning area | Sale year
Sale 229, Western GOM | 2012
Sale 231, Central GOM | 2013
Sale 233, Western GOM | 2013
Sale 235, Central GOM | 2014
Sale 238, Western GOM | 2014
Sale 241, Central GOM | 2015
Sale TBD, Western GOM | 2015
Sale TBD, Central GOM | 2016
Sale TBD, Western GOM | 2016
Sale TBD, Central GOM | 2017

BOEMRE seeks information and nominations on oil and gas leasing, exploration, development and production within the Central and Western GOM Planning Areas from all interested parties. This early planning and consultation step ensures that all interests and concerns are communicated to the Department of the Interior for its future decisions in the leasing process pursuant to section 18 of OCSLA (43 U.S.C. 1344) and implementing regulations (30 CFR part 256).

BOEMRE requests responses regarding proposed sales in both the Central and Western GOM Planning Areas. Areawide lease sale proposals in the Central and Western GOM Planning Areas are very similar. Accordingly, this multisale process addresses decisions for all ten lease sales in both the Central and Western GOM Planning Areas.

Pursuant to section 18 of OCSLA (43 U.S.C. 1344) the Secretary of the Interior is developing the 5-year Program for 2012-2017; therefore, this Call should not be construed as a prejudgment by the Secretary concerning any area to be made available for leasing under the 2012-2017 5-year Program.

In addition, this Call does not indicate a preliminary decision to lease in the areas described below. Final delineation of each area for possible leasing will be made later in compliance with applicable laws (e.g., NEPA, OCSLA, CZMA) and established departmental procedures.

3. Description of Areas

The areas of this Call include the entire Central and Western GOM Planning Areas, except for those exclusions listed below in Item 4 (Areas Excluded from this Call).

The Central GOM Planning Area is bounded on the north by the Federal-State boundary offshore Louisiana, Mississippi, and Alabama. The eastern boundary of the Central GOM Planning Area begins at the offshore boundary between Alabama and Florida and proceeds southeasterly to 26.19 degrees North latitude, thence southwesterly to 25.6 degrees North latitude. The western boundary of the Central GOM Planning Area begins at the offshore boundary between Texas and Louisiana and proceeds southeasterly to 28.43 degrees North latitude, thence south southwesterly to 27.49 degrees North latitude, thence south southeasterly to 25.80 degrees North latitude. The Central GOM Planning Area is bounded on the south by the maritime boundary with Mexico as established by the “Treaty Between The Government of The United States of America and The Government of The United Mexican States on The Delimitation of The Continental Shelf in The Western Gulf of Mexico Beyond 200 Nautical Miles,” which took effect in January 2001, and by the limit of the U.S. Exclusive Economic Zone in the area east of the continental shelf boundary with Mexico. The Central GOM Planning Area available for nominations and comments at this time consists of approximately 66.45 million acres, of which approximately 40.85 million acres are currently unleased.

The Western GOM Planning Area is bounded on the west and north by the Federal/State boundary offshore Texas. The eastern boundary begins at the offshore boundary between Texas and Louisiana and proceeds southeasterly to 28.43 degrees North latitude, thence south southwesterly to 27.49 degrees North latitude, thence south southeasterly to 25.80 degrees North latitude. The Western GOM Planning Area is bounded on the south by the maritime boundary with Mexico as established by the “Treaty Between The Government of The United States of America and The Government of The United Mexican States on The Delimitation of The Continental Shelf in The Western Gulf of Mexico Beyond 200 Nautical Miles,” which took effect in January 2001. The Western GOM Planning Area available for nominations and comments at this time consists of approximately 28.58 million acres, of which approximately 19.45 million acres are currently unleased.

A standard Call for Information Map depicting the Central and Western GOM Planning Areas on a block-by-block basis is available without charge from: Bureau of Ocean Energy Management, Regulation and Enforcement, Public Information Office (MS 5034), 1201 Elmwood Park Boulevard, New Orleans, Louisiana 70123-2394, or telephone: 1-800-200-GULF. The map is also available via the BOEMRE Web site at: http://www.boemre.gov.

4. Areas Excluded From This Call

A. The entire Central GOM Planning Area will be considered for possible leasing except:

1. Blocks that were previously included within the Eastern GOM Planning Area and are within 100 miles of the Florida coast.

2. Blocks east of the Military Mission line (86 degrees, 41 minutes west longitude) under an existing moratorium until 2022, as a result of the Gulf of Mexico Energy Security Act of 2006 (December 20, 2006).

3. Blocks that are beyond the United States Exclusive Economic Zone in the area known as the northern portion of the Eastern Gap.

4. Whole and partial blocks that lie within the 1.4 nautical mile buffer zone north of the maritime boundary between the United States and Mexico.

B. The entire Western GOM Planning Area will be considered for possible leasing except:

1. Whole and partial blocks within the boundary of the Flower Garden Banks National Marine Sanctuary.

2. Whole and partial blocks that lie within the 1.4 nautical mile buffer zone north of the continental shelf boundary between the United States and Mexico.

5. Instructions on Call

Indications of interest and comments must be received no later than 30 days following publication of this document in the Federal Register. Comments must be submitted in envelopes labeled “Nominations for Proposed 2012-2017 Lease Sales in the Central and Western Gulf of Mexico” or “Comments on the Call for Information and Nominations for Proposed 2012-2017 Lease Sales in the Central and Western Gulf of Mexico” and submitted to the Bureau of Ocean Energy Management, Regulation and Enforcement, Gulf of Mexico OCS Region, Leasing Activities Section, (Attention: Mr. Carrol Williams), 1201 Elmwood Park Boulevard (Mail Stop 5422), New Orleans, Louisiana 70123-2394. You may also submit comments on the Call via e-mail to carrol.williams@boemre.gov. You should include “Comments on the Call for Proposed 2012-2017 Lease Sales” in the subject line of your message.

The standard Call for Information Map delineates the Call area that has been identified by BOEMRE as having potential for the discovery of accumulations of oil and gas. Respondents are requested to indicate interest in and comment on any or all of the Federal acreage within the boundaries of the Call area that they wish to have included in each of the proposed lease sales in the Central and Western GOM Planning Areas. Indications of interest and/or comments must be submitted to the Gulf of Mexico Region's Leasing Activities Section (Attention: Mr. Carrol Williams), at the previously-noted address.

Respondents indicating interest should outline the areas of interest along block lines and rank the areas in which they have expressed interest according to priority of their interest (e.g., priority 1 [high], 2 [medium], or 3 [low]), specifically indicating blocks by priority. Areas where interest has been indicated, but on which respondents have not indicated priorities will be considered priority 3 (low).

Respondents may also submit a list of blocks nominated by Official Protraction Diagram and Leasing Map designations to ensure correct interpretation of their nominations. Official Protraction Diagrams and Leasing Maps can be purchased from the Public Information Office.

Also, BOEMRE seeks comments from all interested parties about particular geological, environmental (including natural disasters), biological, archaeological and socioeconomic conditions or conflicts, or other information that affect the potential leasing and development of particular areas, or possible conflicts between future OCS oil and gas activities that may result from the proposed sales and State Coastal Management Programs (CMPs). These comments should identify specific CMP policies of concern, the nature of the conflict foreseen, and proposed means to avoid or mitigate potential conflicts. Comments may refer to both broad areas or may refer to particular blocks.

6. Information from Call

Information submitted in response to this Call will be used for several purposes, including identifying and prioritizing areas with potential for oil and gas development as well as determining possible environmental effects and potential conflicts in the Call area. The areas nominated in the proposed sales, their respective rankings, and comments will be analyzed to make a preliminary determination of the potential advantages and disadvantages of oil and gas exploration and development to the region and the Nation. Comments collected will be used to develop proposed actions and alternatives in the EIS scoping process, to develop lease terms and conditions to ensure safe offshore operations, and to assess potential conflicts between offshore gas and oil activities and a State CMP.

7. Existing Information

BOEMRE routinely assesses the status of information acquisition efforts and the quality of the information base for potential decisions on tentatively scheduled lease sales. As a result of this continually ongoing assessment, it has been determined that the status of the existing and extensive data available for planning, analysis, and decision making is adequate.

An extensive environmental studies program has been underway in the GOM since 1973. The emphasis, including continuing studies, has been on environmental characterization of biologically sensitive habitats, physical oceanography, ocean-circulation modeling, and ecological effects of oil and gas activities.

A complete listing of available study reports, and information for ordering copies, can be obtained from the Public Information Office referenced above. The reports may also be ordered, for a fee, from the U.S. Department of Commerce, National Technical Information Service, 5301 Shawnee Road, Springfield, Virginia 22312, or telephone (703) 605-6000 or (800) 553-6847. In addition, a program status report for continuing studies in this area can be obtained from the Chief, Environmental Sciences Section (MS 5430), Bureau of Ocean Energy Management, Regulation and Enforcement, Gulf of Mexico OCS Region, 1201 Elmwood Park Boulevard, New Orleans, Louisiana 70123-2394, or telephone (504) 736-2752, or via the BOEMRE Web site at: http://www.gomr.boemre.gov/homepg/regulate/environ/studiesprogram.html.

8. Tentative Schedule

Milestones for Multisale EIS for Proposed 2012-2017 Central and Western GOM Planning Area Sales
Notice of Intent (NOI) to Prepare a Multisale EIS | February 2011.
Call for Information and Nominations | March 2011.
Comments received on NOI | March/April 2011.
Comments received on Call | April 2011.
Area Identification Decision | May/June 2011.
Draft EIS published | Summer 2011.
Public Hearings on Draft EIS | Fall 2011.
Final EIS | Spring 2012.

9. Sale Milestones

The following is a list of tentative milestone dates applicable to lease sales covered by this Call:

Sale-specific Milestones for Proposed 2012-2017 Central and Western GOM Planning Area Sales
Request for Information to Begin Lease Sale Specific Process | 12 months before each lease sale.
Environmental Review Completed | 5 to 7 months before each lease sale.
Proposed Notice and CZM Consistency Determination | 5 months before each lease sale.
Final Notice of Sale | 1 month before each lease sale.

Finally, the tentative months for GOM lease sales during 2012-2017 are:

Central GOM Sales: March of each year.

Western GOM Sales: November 2012. August of each year thereafter.

Dated: February 28, 2011.
Michael R. Bromwich,
Director, Bureau of Ocean Energy, Management, Regulation and Enforcement.

[FR Doc. 2011-5953 Filed 3-14-11; 8:45 am]

BILLING CODE 4310-MR-P